DEPARTMENT OF TRANSPORTATION

Surface Transportation Board

[STB Finance Docket No. 34727]

Indiana Eastern Railroad, LLC—Lease and Operation Exemption—CSX Transportation, Inc.

Indiana Eastern Railroad, LLC (IERR), a noncarrier, has filed a verified notice of exemption under 49 CFR 1150.31 to lease and operate, pursuant to a Land and Track Lease Agreement with CSX Transportation, Inc. (CSXT), to operate 43.0 miles of rail line. The line of railroad extends between milepost No. CI 61.9 at or near Richmond, IN, and milepost No. CI 18.9 at or near Fernald, OH, including spur, industrial, team, switching, and side track, in Wayne, Union, and Franklin Counties, IN, and in Butler and Hamilton Counties, OH.¹

¹ CSXT will retain overhead trackage rights until December 31, 2005, between Cottage Grove, IN, milepost No. CI 45.0, and Fernald, milepost No. CI 18.9, in order to conclude a contract with the U.S. Department of Energy to transport contaminated dirt.

IERR certifies that its projected revenues as a result of the transaction will not exceed those that would qualify it as a Class III rail carrier, and will not exceed $5 million.

The transaction is scheduled to be consummated on August 26, 2005.

If the verified notice contains false or misleading information, the exemption is void ab initio. Petitions to revoke the exemption under 49 U.S.C. 10502(d) may be filed at any time. The filing of a petition to revoke will not automatically stay the transaction.

An original and 10 copies of all pleadings, referring to STB Finance Docket No. 34727, must be filed with the Surface Transportation Board, 1925 K Street, NW., Washington, DC 20423-0001. In addition, a copy of each pleading must be served on Andrew P. Goldstein, McCarthy, Sweeney & Harkaway, P.C., Suite 600, 2175 K Street, NW., Washington, DC 20037.

Board decisions and notices are available on our Web site at http://www.stb.dot.gov.

Decided: August 12, 2005.
By the Board, David M. Konschnik, Director, Office of Proceedings.
Vernon A. Williams,
Secretary.

[FR Doc. 05-16379 Filed 8-18-05; 8:45 am]

BILLING CODE 4915-01-P